DEPARTMENT OF THE TREASURY

Submission for OMB Review; Comment Request

May 13, 2010.

The Department of Treasury will submit the following public information collection requirement to OMB for review and clearance under the Paperwork Reduction Act of 1995, Public Law 104-13 on or after the publication date of this notice. A copy of the submission may be obtained by calling the Treasury Departmental Office Clearance Officer listed. Comments regarding this information collection should be addressed to the OMB reviewer listed and to the Treasury PRA Clearance Officer, Department of the Treasury, 1750 Pennsylvania Avenue, NW., Suite 11010, Washington, DC 20220.

Dates: Written comments should be received on or before June 18, 2010 to be assured of consideration.

Community Development Financial Institutions (CDFI) Fund

OMB Number: To be assigned.

Type of Review: New collection.

Title: Evaluation of the New Markets Tax Credit (NMTC) Program.

Description: The evaluation is being done by the Urban Institute under contract to the CDFI Fund. It includes a one-time information collection effort involving participants and stakeholders in the program, and is intended to describe and assess program activities, identify project-specific outputs and outcomes as well as community outcomes, and address the issue of the need for NMTC Investment.

Estimated Total Burden Hours: 500 hours.

CDFI Fund Clearance Officer: Ashanti McCallum, Community Development Financial Institutions Fund, Department of the Treasury, 601 13th Street, NW., Suite 200 South, Washington, DC 20005; (202) 622-9018.

OMB Reviewer: Shagufta Ahmed, Office of Management and Budget, New Executive Office Building, Room 10235, Washington, DC 20503; (202) 395-7873.

Dawn D. Wolfgang,
Treasury PRA Clearance Officer.

[FR Doc. 2010-11976 Filed 5-18-10; 8:45 am]

BILLING CODE 4810-70-P